DEPARTMENT OF COMMERCE

International Trade Administration

[C-557-822]

Utility Scale Wind Towers From Malaysia: Final Results of Countervailing Duty Administrative Review; 2021

AGENCY: Enforcement and Compliance, International Trade Administration, Department of Commerce.

SUMMARY: The U.S. Department of Commerce (Commerce) determines that CS Wind Malaysia Sdn Bhd (CS Wind), a producer/exporter of utility scale wind towers (wind towers) from Malaysia, received countervailable subsidies during the period of review (POR) March 25, 2021, through December 31, 2021.

DATES: Applicable March 11, 2024.

FOR FURTHER INFORMATION CONTACT: Kelsie Hohenberger, AD/CVD Operations, Office V, Enforcement and Compliance, International Trade Administration, U.S. Department of Commerce, 1401 Constitution Avenue NW, Washington, DC 20230; telephone: (202) 482-2517.

SUPPLEMENTARY INFORMATION:

Background

On September 7, 2023, Commerce published the Preliminary Results of this administrative review and invited parties to comment.¹ On December 15, 2023, Commerce extended the deadline for the final results until March 5, 2024.² For a complete description of the events that occurred since the Preliminary Results, see the Issues and Decision Memorandum.³

¹ See Utility Scale Wind Towers from Malaysia: Preliminary Results and Partial Rescission of Countervailing Duty Administrative Review, 2019, 88 FR 61516 (September 7, 2023) (Preliminary Results), and accompanying Preliminary Decision Memorandum.

² See Memorandum, “Extension of Deadline for Final Results of Countervailing Duty Administrative Review,” dated December 15, 2023.

³ See Memorandum, “Decision Memorandum for the Final Results of the Administrative Review of the Countervailing Duty Order on Utility Scale Wind Towers from Malaysia; 2021,” dated concurrently with, and hereby adopted by, this notice (Issues and Decision Memorandum).

Scope of the Order

The products covered by this order are wind towers from Malaysia. For a complete description of the scope of this order, see the Issues and Decision Memorandum.

Analysis of Comments Received

We addressed all issues raised in interested parties' case/rebuttal briefs in the Issues and Decision Memorandum accompanying this notice. A list of the issues raised by parties is provided as an appendix to this notice. The Issues and Decision Memorandum is a public document and is on file electronically via Enforcement and Compliance's Antidumping and Countervailing Duty Centralized Electronic Service System (ACCESS). ACCESS is available to registered users at http://access.trade.gov. In addition, a complete version of the Issues and Decision Memorandum can be accessed directly at http://access.trade.gov/public/FRNoticesListLayout.aspx.

Changes Since the Preliminary Results

After evaluating the comments received from interested parties, we have made certain changes to CS Wind's subsidy rate calculations. For a discussion of these changes, see the Issues and Decision Memorandum.

Methodology

Commerce conducted this review in accordance with section 751(a)(1)(A) of the Tariff Act of 1930, as amended (the Act). For each of the subsidy programs found countervailable, we find that there is a subsidy, i.e., a government-provided financial contribution that gives rise to a benefit to the recipient, and that the subsidy is specific.⁴ For a description of the methodology underlying Commerce's conclusions, see the Issues and Decision Memorandum.

⁴ See sections 771(5)(B) and (D) of the Act regarding financial contribution; section 771(5)(E) of the Act regarding benefit; and section 771(5A) of the Act regarding specificity.

Final Results of Administrative Review

We determine that, for the period March 25, 2021, through December 31, 2021, the following net countervailable subsidy rate exists:

Producer/exporter | Subsidy rate (percent ad valorem)
CS Wind Malaysia Sdn Bhd | 10.72

Disclosure

Commerce intends to disclose the calculations performed for these final results of review within five days of the date of publication of this notice in the Federal Register, in accordance with 19 CFR 351.224(b).

Assessment Rate

Pursuant to section 751(a)(2)(C), Commerce will determine, and U.S. Customs and Border Protection (CBP) shall assess, countervailing duties on all appropriate entries of subject merchandise in accordance with the final results of this review, for the above-listed company at the applicable ad valorem assessment rate. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

In accordance with section 751(a)(1) of the Act, Commerce intends to instruct CBP to collect cash deposits of estimated countervailing duties in the amount shown for the company listed above. For all non-reviewed firms, we will instruct CBP to continue to collect cash deposits of estimated countervailing duties at the most recent company-specific or all-others rate applicable to the company, as appropriate. These cash deposits, when imposed, shall remain in effect until further notice.

Administrative Protective Order

This notice also serves as a final reminder to parties subject to administrative protective order (APO) of their responsibility concerning the return or destruction of proprietary information disclosed under APO in accordance with 19 CFR 351.305(a)(3). Timely written notification of the retuSW nen/destruction of APO materials or conversion to judicial protective order is hereby requested. Failure to comply with the regulations and terms of an APO is a sanctionable violation.

Notice to Interested Parties

These final results are issued and published in accordance with sections 751(a)(1) and 777(i)(1) of the Act and 19 CFR 351.221(b)(5).

Dated: March 5, 2024.
Ryan Majerus,
Deputy Assistant Secretary for Policy and Negotiations performing the non-exclusive functions and duties of the Assistant Secretary for Enforcement and Compliance.

Appendix

List of Topics Discussed in the Issues and Decision Memorandum

I. Summary

II. Background

III. Scope of the Order

IV. Period of Review

V. Subsidies Valuation Information

VI. Analysis of Programs

VII. Discussion of the Issues

Comment 1: Whether to Grant CS Wind an Entered Value Adjustment

Comment 2: Whether to Apply Adverse Facts Available as a Result of CS Wind's Land Reporting

Comment 3: Whether Commerce Should Revise its Land Benchmark

Comment 4: Whether to Initiate on the Petitioner's New Subsidy Allegations Concerning Natural Gas and Water for Less Than Adequate Remuneration

Comment 5: Whether CS Wind Received Countervailable Benefits Under the Import Duties Exemption Program

Comment 6: Whether Commerce Should Revise its Electricity Benchmark

VIII. Recommendation

[FR Doc. 2024-05114 Filed 3-8-24; 8:45 am]

BILLING CODE 3510-DS-P